DEPARTMENT OF COMMERCE

Foreign-Trade Zones Board

[B-5-2016]

[Authorization of Production Activity, Foreign-Trade Subzone 279A, Thoma-Sea Marine Constructors, L.L.C. (Shipbuilding), Houma, Louisiana

On February 3, 2016, the Houma-Terrebonne Airport commission, grantee of FTZ 279, submitted a notification of proposed production activity to the Foreign-Trade Zones (FTZ) Board on behalf of Thoma-Sea Marine Constructors, L.L.C., operator of Subzone 279A, in Houma, Louisiana.

The notification was processed in accordance with the regulations of the FTZ Board (15 CFR part 400), including notice in the Federal Register inviting public comment (81 FR 7500, February 12, 2016). The FTZ Board has determined that no further review of the activity is warranted at this time. The production activity described in the notification is authorized, subject to the FTZ Act and the FTZ Board's regulations, including Section 400.14, and the following special conditions:

(1) Any foreign steel mill products admitted to the zone for the Thoma-Sea Marine Constructors, L.L.C., activity, including plate, angles, shapes, channels, rolled steel stock, bars, pipes and tubes, not incorporated into merchandise otherwise classified, and which is used in manufacturing, shall be subject to full customs duties in accordance with applicable law, unless the Executive Secretary determines that the same item is not then being produced by a domestic steel mill.

(2) Thoma-Sea Marine Constructors, L.L.C., shall meet its obligation under 15 CFR 400.13(b) by annually advising the FTZ Board's Executive Secretary as to significant new contracts with appropriate information concerning foreign purchases otherwise dutiable, so that the FTZ Board may consider whether any foreign dutiable items are being imported for manufacturing in the zone primarily because of FTZ procedures and whether the FTZ Board should consider requiring customs duties to be paid on such items.

Dated: June 2, 2016.
Andrew McGilvray,
Executive Secretary.

[FR Doc. 2016-13712 Filed 6-9-16; 8:45 am]

BILLING CODE 3510-DS-P